NATIONAL CREDIT UNION ADMINISTRATION

Agency Information Collection Activities: Submission to OMB for Extension of a Currently Approved Collection; Comment Request

AGENCY: National Credit Union Administration (NCUA).

ACTION: Request for comment.

SUMMARY: The NCUA is submitting the following information collection to the Office of Management and Budget (OMB) for review and clearance under the Paperwork Reduction Act of 1995 (Pub. L. 104-13, 44 U.S.C. chapter 35). This information collection is published to obtain comments from the public.

DATES: Comments will be accepted until April 19, 2005.

ADDRESSES: Interested parties are invited to submit written comments to the NCUA Clearance Officer listed below:

Clearance Officer: Mr. Neil McNamara, National Credit Union Administration, 1775 Duke Street, Alexandria, VA 22314-3428, Fax No. 703-518-6669, E-mail: mcnamara@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

Title: HMDA Requirements under 12 U.S.C. 2801-2810 and Regulation C 12 CFR part 203.

OMB Number: 3133-0166.

Form Number: None.

Type of Review: Extension of a currently approved collection.

Description: The collection of this data is required under the Home Mortgage Disclosure Act. The data collection is intended to provide the public with loan data that can be used (1) to help determine whether financial institutions are serving the housing needs of their communities; (Reg C 203.1(b)(1)(ii), (2) to assist public officials in distributing public-sector investments so as to attract private investment to areas where it is needed; Reg CC 203.1(b)(1)(iii), and (3) to assist in identifying possible discriminatory lending patterns and enforcing anti-discrimination statues. Reg C 203.1(b)(2).

Respondents: Credit unions.

Estimated No. of Respondents/Record keepers: 1,996.

Estimated Burden Hours Per Response: 41.46 hours.

Frequency of Response: Record-keeping, third party disclosure and reporting annually.

Estimated Total Annual Burden Hours: 82,765 hours.

Estimated Total Annual Cost: 0.

By the National Credit Union Administration Board on February 11, 2005.
Mary Rupp,
Secretary of the Board.

[FR Doc. 05-3138 Filed 2-17-05; 8:45 am]

BILLING CODE 7535-01-P